DEPARTMENT OF AGRICULTURE

Natural Resources Conservation Service

[Docket No. NRCS-2022-0004]

Notice of Intent To Prepare an Environmental Impact Statement for the Central Oregon Irrigation District Pilot Butte Canal Infrastructure Modernization Project, Deschutes County, Oregon

AGENCY: Natural Resources Conservation Service, USDA.

ACTION: Notice of intent to prepare an Environmental Impact Statement (EIS).

SUMMARY: The Natural Resources Conservation Service (NRCS) Oregon State Office announces its intent to prepare an EIS for the Central Oregon Irrigation District (COID) Pilot Butte Canal (PBC) Project in the proximity of Redmond and Bend, Oregon. The EIS process will examine three alignment alternatives for replacing the existing PBC with a piped and pressurized system. The purpose of the new system is to promote irrigation water conservation in COID-owned infrastructure, improve water delivery reliability to COID patrons, and reduce long-term operation and maintenance costs. NRCS is requesting comments to identify significant issues and potential alternatives, information, and analyses relevant to the proposed action from all interested individuals, Tribes, and Federal, State and local agencies and jurisdictions.

DATES: We will consider comments that we receive by July 18, 2022. Comments received later will be considered to the extent possible.

ADDRESSES: We invite you to submit comments in response to this notice. You may submit your comments through one of the methods below:

• Federal eRulemaking Portal: Go to http://www.regulations.gov and search for docket ID NRCS-2022-0004. Follow the online instructions for submitting comments; or

• Mail or Hand Delivery: Craig Horrell, District Manager, Central Oregon Irrigation District, 1055 SW Lake CT, Redmond, OR 97756.

All comments received will be posted and made publicly available on www.regulations.gov.

FOR FURTHER INFORMATION CONTACT: Gary Diridoni, telephone: (503) 414-3092; email: gary.diridoni@usda.gov. In addition, for questions related to submitting comments: StingRay Communications—ShanRae Hawkins, telephone: (541) 390-6411; email: shanrae@hellostingray.com; or the PBC Project website at: www.coidpiping.com. Persons with disabilities who require alternative means for communication should contact the U.S. Department of Agriculture (USDA) Target Center at (202) 720-2600 (voice).

SUPPLEMENTARY INFORMATION:

Purpose and Need

The PBC Project would be implemented as agricultural water management, as authorized under Sections 3 and 4 of Public Law 83-566. The primary purpose of agricultural water management on PBC is conservation of irrigation water in COID-owned infrastructure, improvement of water delivery reliability to COID patrons, and reduction in long-term operation and maintenance costs on approximately 21 miles of the COID-owned canal. The PBC Project is needed to address water loss in COID conveyance systems and water delivery, operation, and maintenance inefficiencies. Specifically, the PBC Project will address water loss due to seepage and evaporation. It will also support local agricultural land use and increase public safety for PBC. The need for watershed planning is established and implementation of management actions are authorized under Public Law 83-566, the Watershed Protection and Flood Prevention Act of 1954, as amended, and Public Law 78-534, the Flood Control Act of 1944. Further context for the need for watershed planning in COID is provided below.

COID was largely developed over 100 years ago to provide irrigation water to patented lands in the Central Oregon Region. COID operates and maintains a combined total of over 700 miles of open and unlined main and lateral canals that serve approximately 50,000 acres of irrigated lands that stretch north from Bend, Oregon to the Crooked River, and east to Powell Butte. COID's PBC also conveys water to the Lone Pine Irrigation District located on the north side of the Crooked River east of Terrebonne, Oregon and to the North Unit Irrigation District's (NUID) main canal near Smith Rock.

The volcanic nature of the Central Oregon geology presents fractured basalt, cinder and varied substrates that result in a propensity for seepage losses in many areas of COID's canal system. Optimization of water use in the Central Oregon basin is critical to maintaining the balance of water use as societal and environmental needs continue to change over time. Within the Basin over the next 30 years the irrigation districts will be increasing streamflow in the Deschutes River system to protect threatened species, which leaves less water available to support agricultural production. The saved water that would be made available by modernizing COID's conveyance system would be critical to supporting agricultural production. Additionally, modernization will result in other benefits such as energy conservation, increased hydropower opportunities, reduced operations, and maintenance costs, increased operational efficiencies and increased public safety.

Consistent with its System Improvement Plans (2016, 2017) and Capital Plan (2018), COID developed the Smith Rock-King Way Infrastructure Modernization Project Final Watershed Plan-Environmental Assessment (Watershed Plan-EA) for which NRCS issued a Finding of No Significant Impact in 2020 (https://oregonwatershedplans.org/central-oregon-id). The Watershed Plan-EA included piping the north end of PBC; fully piping the G-4 Lateral; partially piping the J-Lateral; and constructing the L-Lateral crossing of the NUID Canal. With completion of the work identified in the 2020 Final Watershed Plan-EA, water would also be conveyed from COID's system to NUID. The proposed alternatives analyzed under this EIS would extend improvements to PBC that are currently being completed under the 2020 Smith Rock-King Way Watershed Plan-EA.

Preliminary Proposed Action and Alternatives Including No Action

The proposed action considered under this EIS would complement projects already being completed under an approved 2020 Final Watershed-Plan EA and FONSI. These projects are located along PBC beginning around NE 17th Street in Redmond, Oregon and continuing to PBC's diversion point in Bend, Oregon.

Three Proposed Action Alignment Alternatives will be evaluated to replace the existing PBC within the PBC Project area with a piped and pressurized system. The Proposed Action Alignment Alternatives would be within the same alignment except for the areas discussed below. Additionally, a No Action alternative will be considered.

Alternative 1—Proposed Action Alignment 1. This alternative includes placing new pipe wholly within the existing open channel of PBC, including the section adjacent to Juniper Ridge, which is listed on the National Register of Historic Places (NRHP).

Alternative 2—Proposed Action Alignment 2. This alternative would differ from Alternative 1 in that it would avoid the NRHP-listed portion of PBC by piping a section between Yeoman Road and Cooley Road largely within NE 18th Street.

Alternative 3—Proposed Action Alignment 3. This alternative would differ from Alternatives 1 and 2 in that it would avoid the NRHP-listed portion of PBC by piping a section between Yeoman Road and Cooley Road largely within Old Deschutes Market Road.

Alternatives 2 and 3 would leave the NRHP-listed segment of canal in place and permanently dewatered.

Alternative 4—No Action Alternative. Under the No Action Alternative, COID would continue to operate and maintain its existing canals and pipelines in their current condition. This alternative assumes that modernization of COID's infrastructure would not be reasonably certain to occur, as funding at the scale necessary to modernize COID's remaining infrastructure is not anticipated from other sources. The No Action Alternative would be a continuation of COID's standard operations and maintenance. The No Action Alternative would not meet the PBC Project's purpose and need.

Summary of Expected Impacts

Preliminary evaluation of the proposed action indicates that impacts may primarily be local within COID. These may include short-term impacts such as impacts to vegetation, soils, noise, and traffic. In the long-term the proposed action is expected to have impacts to visual resources (views of the open canal from adjacent properties) and is expected to have beneficial impacts by reducing water loss and increasing water delivery reliability.

Anticipated Permits and Authorizations

The following permits and other authorizations are anticipated to be required:

• Clean Water Act (CWA) Section 404 Permit. CWA implementation of the proposed federal action may require a CWA section 404 permit from the U.S. Army Corps of Engineers.

• CWA Section 401 Permit. The PBC Project may also require water quality certification under section 401 of CWA.

• CWA Section 402. Permitting under section 402 of CWA (National Pollutant Discharge Elimination System Permit) may be required.

• County and City Permits. Implementation of the proposed federal action would require local building and land use permits from Deschutes County and the Cities of Redmond and Bend.

Schedule of Decision-Making Process

A Draft EIS (DEIS) will be prepared and circulated for review and comment by agencies and the public for at least 45 days per 40 CFR 1503.1, 1502.20, 1506.11, and 1502.17, and 7 CFR 650.13. DEIS is anticipated to be published in the Federal Register in 2023, approximately 9 months after publication of this NOI. A Final EIS is anticipated to be published within 6 months of completion of the public comment period for the DEIS.

NRCS then will decide whether to implement one of the alternatives as evaluated in the EIS. A Record of Decision will be completed after the required 30-day waiting period and will be publicly available. The responsible federal official and decision maker for the NRCS is Ron Alvarado, Oregon State Conservationist.

Public Scoping Process

Public scoping meetings have been and will be held to present the PBC Project and further develop the scope of DEIS. A preliminary public scoping meeting was held online at 6 p.m. on Wednesday, October 20, 2021. It is anticipated that one additional scoping meeting will be held after this NOI is published. Comments received for both scoping meetings, including the names and addresses of those who comment, will be part of the public record. A recording of the first scoping meeting and the presentation materials are available on the PBC Project website: www.coidpiping.com. The date, time, and location for the second meeting also will be announced on the PBC Project website.

Identification of Potential Alternatives, Information, and Analyses

NRCS invites agencies and individuals who have special expertise, legal jurisdiction, or interest in the COID PBC Project to provide comments concerning the scope of the analysis and identification of potential alternatives, information, and analyses relevant to the Proposed Action.

Authorities

Estimated federal funds required for the construction of the proposed action would exceed $25 million and the proposed action will therefore require congressional approval per the 2018 Agriculture Appropriations Act amended funding threshold. In accordance with 7 CFR part 650.7(a)(2), an EIS is required for projects requiring congressional approval. This document is published pursuant to the NEPA regulations regarding publication of a notice of intent to issue an environmental impact statement (40 CFR 1501.9(d)). This EIS will be prepared to evaluate potential environmental impacts as required by section 102(2)(C) of NEPA; the Council on Environmental Quality regulations (40 CFR parts 1500-1508); and NRCS regulations that implement NEPA in 7 CFR part 650. Watershed planning is authorized under the Watershed Protection and Flood Prevention Act of 1954, as amended, (Pub. L. 83-566) and the Flood Control Act of 1944 (Pub. L. 78-534).

Federal Assistance Programs

The title and number of the Federal assistance program as found in the Assistance Listing ¹ (formerly referred to as the Catalog of Federal Domestic Assistance) to which this document applies is 10.904 Watershed Protection and Flood Prevention.

¹ See https://sam.gov/content/assistance-listings.

Executive Order 12372

Executive Order 12372, “Intergovernmental Review of Federal Programs,” requires consultation with State and local officials that would be directly affect by proposed Federal financial assistance. The objectives of the Executive order are to foster an intergovernmental partnership and a strengthened federalism, by relying on State and local processes for State and local government coordination and review of proposed Federal financial assistance and direct Federal development. This program is subject to the provisions of Executive Order 12372, which requires intergovernmental consultation with State and local officials.

USDA Non-Discrimination Policy

In accordance with Federal civil rights law and USDA civil rights regulations and policies, USDA, its Agencies, offices, and employees, and institutions participating in or administering USDA programs are prohibited from discriminating based on race, color, national origin, religion, sex, gender identity (including gender expression), sexual orientation, disability, age, marital status, family or parental status, income derived from a public assistance program, political beliefs, or reprisal or retaliation for prior civil rights activity, in any program or activity conducted or funded by USDA (not all bases apply to all programs). Remedies and complaint filing deadlines vary by program or incident.

Persons with disabilities who require alternative means of communication for program information (for example, braille, large print, audiotape, American Sign Language, etc.) should contact the responsible Agency or USDA TARGET Center at (202) 720-2600 (voice and TTY) or (844) 433-2774 (toll-free nationwide). Additionally, program information may be made available in languages other than English.

To file a program discrimination complaint, complete the USDA Program Discrimination Complaint Form, AD-3027, found online at https://www.usda.gov/oascr/how-to-file-a-program-discrimination-complaint and at any USDA office or write a letter addressed to USDA and provide in the letter all the information requested in the form. To request a copy of the complaint form, call (866) 632-9992. Submit your completed form or letter to USDA by mail to: U.S. Department of Agriculture, Office of the Assistant Secretary for Civil Rights, 1400 Independence Avenue SW, Washington, DC 20250-9410 or email: OAC@usda.gov.

USDA is an equal opportunity provider, employer, and lender.

Ronald Alvarado.
Oregon State Conservationist, Natural Resources Conservation Service.

[FR Doc. 2022-13031 Filed 6-16-22; 8:45 am]

BILLING CODE 3410-16-P